DEPARTMENT OF TRANSPORTATION

National Highway Traffic Safety Administration

49 CFR Part 571

[Docket No. NHTSA-2019-0024]

RIN 2127-AL03

Federal Motor Vehicle Safety Standards; Glazing Materials

AGENCY: National Highway Traffic Safety Administration (NHTSA), Department of Transportation (DOT).

ACTION: Proposed rule; withdrawal.

SUMMARY: NHTSA withdraws its June 21, 2012 Notice of Proposed Rulemaking (NPRM), which proposed revising Federal motor vehicle safety standard (FMVSS) No. 205, “Glazing materials,” to harmonize it with Global Technical Regulation (GTR) No. 6, “Safety Glazing Materials for Motor Vehicles and Motor Vehicle Equipment.” Based on the results of the agency's review of available information and analysis of the technically substantive comments on the proposal, NHTSA is unable to conclude at this time that harmonizing FMVSS No. 205 with GTR No. 6 would increase safety.

DATES: As of April 4, 2019, the proposed amendments to 49 CFR part 571 that were contained in the notice of proposed rulemaking (NPRM) published June 21, 2012 (77 FR 37477) are withdrawn.

FOR FURTHER INFORMATION CONTACT: James Myers, Office of Crashworthiness Standards (Phone 202-366-1810; FAX: 202-366-2739) or Callie Roach, Office of the Chief Counsel (Phone: 202-366-2992; FAX: 202-366-3820).

You may send mail to these officials at: National Highway Traffic Safety Administration, 1200 New Jersey Avenue SE, Washington, DC 20590.

SUPPLEMENTARY INFORMATION:

I. Background

Federal Motor Vehicle Safety Standard (FMVSS) No. 205, “Glazing materials,” (49 CFR 571.205), specifies performance requirements for the types of glazing that may be installed in motor vehicles. It also specifies the vehicle locations in which the various types of glazing may be installed. The purpose of FMVSS No. 205 is to reduce injuries (e.g., lacerations) resulting from impact to glazing surfaces, to ensure a necessary degree of transparency in motor vehicle windows for driver visibility, and to minimize the possibility of occupants being thrown through the vehicle windows in collisions. FMVSS No. 205 applies to passenger cars, multipurpose passenger vehicles, trucks, buses, motorcycles, slide-in campers, pickup covers designed to carry persons while in motion and low speed vehicles, and to glazing materials for use in those vehicles.

GTR No. 6, “Safety Glazing Materials for Motor Vehicles and Motor Vehicle Equipment,” was adopted under the United Nations/Economic Commission for Europe (UN/ECE) 1998 Agreement, which is administered by World Forum for Harmonization of Vehicle Regulation (WP.29). At the one-hundred-and-thirty-second session of the WP.29 in March 2004, the formal proposal to develop a GTR on safety glazing was adopted, and at that time restricted the scope of the glazing GTR to glass safety glazing, thereby excluding other materials, such as plastics. The objective of GTR No. 6 is to develop an internationally harmonized standard regarding the safety of glass automotive glazing materials. GTR No. 6 includes requirements and tests to ensure that the mechanical properties, optical qualities and environmental resistance of glazing are satisfactory; it does not include type approval, plastic glazing and installation requirements.

II. NPRM

On June 21, 2012, NHTSA published a NPRM ¹ as part of the agency's ongoing effort to harmonize vehicle safety standards under the UN/ECE 1998 agreement when, and to the extent, appropriate to do so. The agency stated in the NPRM that harmonization with GTR No. 6 would modernize the test procedures for tempered glass, laminated glass, and glass-plastic glazing used in front windshields and rear and side windows. The GTR proposed an upgraded fragmentation test for testing the tempering of curved tempered glass, and a new procedure for testing an optical property of the windshield at the angle of installation, to more accurately reflect real world driving conditions than the current procedure used in Standard No. 205. The agency said further that most of the proposals were minor amendments that would harmonize differing measurements and performance requirements for similar test procedures. Many of the tests in the GTR were said to be substantially similar to tests currently included in FMVSS No. 205.

¹ 77 FR 37478.

III. Comments Received

In the NPRM, the agency requested public comment on whether the proposed amendments reflecting provisions of the GTR are suitable for being adopted into the Federal glazing standard. NHTSA received comments from 14 entities in response to the NPRM to adopt GTR provisions in FMVSS No. 205.² These comments came from trade associations, glazing manufacturers, automobile manufacturers, a glazing industry expert, and a safety technology company. Overall, most of the comments supported the harmonization efforts, though several suggested revisions or requested clarification. A few commenters were opposed to certain aspects of the proposed harmonization of glazing standards, with one respondent completely opposing the NPRM. NHTSA also received comments for definitions, markings, and cost.

² Docket No. NHTSA-2012-0083.

IV. Decision to Withdraw Rulemaking

Crash data indicates that current glazing materials are performing acceptably. Since the 1960s, the magnitude of the safety problem for glazing has been substantially reduced.³ The increased availability of automatic occupant protection systems has resulted in a substantial reduction in the numbers of occupants impacting the windshield and thus being exposed to lacerative injuries from broken glass. The current glazing standard ensures that emerging and evolving glazing technologies produce commensurate benefits and that glazing remains a safety concern rather than becoming a safety problem.

³ Kahane, C.J. (2015, January). Lives saved by vehicle safety technologies and associated Federal Motor Vehicle Safety Standards, 1960 to 2012—Passenger cars and LTVs—With reviews of 26 FMVSS and the effectiveness of their associated safety technologies in reducing fatalities, injuries and crashes. (Report No. DOT HS 812 069). Washington, DC: National Highway Traffic Safety Administration.

According to agency crash data, occupant ejection, particularly during rollover events, is a much larger safety problem than lacerations from broken glass. NHTSA addressed this safety problem by issuing FMVSS No. 226, “Ejection mitigation,” in 2011. The standard became fully phased-in in 2017. While glazing materials may be one component of an ejection mitigation countermeasure system, the scope of FMVSS No. 205 is focused on material performance in terms of the glazing mechanical strength, optical properties, and environmental durability. The tests described in FMVSS No. 205 assure conformance with minimum required glazing equipment performance levels.

Based on the results of our review and of available data and analysis of the technically substantive comments, the agency is unable to conclude at this time that harmonizing FMVSS No. 205 with GTR No. 6 would, on balance, increase or decrease safety. While some of the proposed changes would be expected to improve safety as they more accurately reflect real world driving conditions, others may result in a decrease in safety. NHTSA has determined that it does not have sufficient data to evaluate the safety implications of harmonizing FMVSS No. 205 with GTR No. 6. Therefore, NHTSA has determined that the most appropriate path forward at this time is to withdraw the 2012 NPRM.

In order to better inform future agency decisions, NHTSA is planning a glazing research study. NHTSA is also monitoring SAE International's efforts to publish a new Glazing Standard, SAE Standard J3097 “Standard for Safety Glazing Materials for Glazing Motor Vehicles and Motor Vehicle Equipment Operating on Land Highways.” If this study is undertaken as planned, it may enable the agency to reach clearer conclusions about the impact of harmonizing FMVSS No. 205 with GTR No. 6. Depending on the outcome of that study and SAE's progress, NHTSA would consider those data in potential next steps.

The agency notes that this document does not represent a decision whether or not to adopt GTR No. 6. NHTSA voted in favor of establishing a global technical regulation (GTR) on automotive glazing and considered adopting the regulations by issuing an NPRM in 2012. However, after considering public comments received in response to the proposal, the agency is withdrawing the NPRM to reconsider its next steps. Accordingly, NHTSA withdraws the 2012 proposed glazing GTR harmonization rulemaking.

Issued in Washington, DC, under authority delegated in 49 CFR part 1.95 and 501.5.
Heidi Renate King,
Deputy Administrator.

[FR Doc. 2019-06518 Filed 4-3-19; 8:45 am]

BILLING CODE 4910-59-P